DEPARTMENT OF HEALTH AND HUMAN SERVICES

Indian Health Service

Office of Clinical and Preventive Services; Division of Oral Health; Dental Preventive and Clinical Support Centers Program

Announcement Type: New and Continuing Competitive.

Funding Announcement Number: HHS-2010-IHS-TDCP-0001.

Catalog of Federal Domestic Assistance Number: 93.933

Key Dates

Application Deadline Date: June 2, 2010.

Review Date: June 9, 2010.

Earliest Anticipated Start Date: August 31, 2010.

I. Funding Opportunity Description

Statutory Authority

The Indian Health Service (IHS) is accepting competitive applications for the Dental Preventive and Clinical Support Centers (DPCSC) Program. This program is authorized under the Snyder Act, 25 U.S.C. 13, and the Public Health Service Act Section 301(a), as amended. The DPCSC Program supports the dental health objectives as outlined in 25 U.S.C. 1602(b)(20-26). This program is described in the Catalog of Federal Domestic Assistance (CDFA) under 93.933.

Background

The primary customers of a Support Center are our dental programs and personnel throughout an IHS Area or broad geographic region. The primary customers are not dental patients or Tribes. The primary function of a Support Center is not the direct provision of clinical care. Well-designed Support Centers will indirectly impact upon patients' oral health by directly addressing the perceived needs of dental personnel and Area or regional dental programs.

Purpose

Support Centers will combine existing resources and infrastructure with IHS Headquarters (HQ) and IHS Area resources in order to address the broad challenges and opportunities associated with IHS preventive and clinical dental programs. Support Centers will restore lost administrative and support infrastructure, and meet the perceived needs of dental programs on a regional or IHS Area basis. In short, Support Centers empower the dental programs they serve.

Proposed local programs focused on clinical or preventive care alone, with no concomitant focus on a regional or Area support-oriented component for the dental program, while well-intentioned and of potential value, are not responsive to this announcement or to the Support Center project.

• Centers will assess the needs of the dental programs served. In order to be responsive to the perceived needs of the dental personnel throughout an Area or region, perceived needs must be systematically assessed. Initial and periodic recurring structured needs assessments or other appraisals of perceived needs of the programs and personnel to be served are essential. Successful proposals will either document the perceived needs of Area programs and personnel, or outline how Area needs will be assessed.

• Centers will provide technical assistance and resources for local and Area clinic-based and community-based oral health promotion/disease prevention (HP/DP) initiatives.

• Centers will send an appropriate representative or representatives to national Support Centers project meetings convened by IHS HQ DOH. Such meetings will be convened annually, as deemed necessary by HQ DOH. All centers are expected to reserve sufficient funds to send a representative or representatives to these meetings.

• Centers will promote the coordination of research, demonstration projects, and studies relating to the causes, diagnosis, treatment, control, and prevention of oral disease. This will be addressed through the collection, analysis, and dissemination of data or other methodology deemed appropriate by the IHS DOH.

• Each center will collaborate with IHS HQ DOH on one ongoing national initiative. Those centers wishing to identify or discuss appropriate collaborative national efforts are encouraged to contact the designated Program Official for this Support Centers project.

• Centers are strongly encouraged to provide technical assistance and resources for local and Area clinical programs.

• Centers are strongly encouraged to provide technical assistance and resources for continuing education opportunities for Area dental personnel.

• Centers are strongly encouraged to address Early Childhood Caries (ECC). Interventions must include an evaluation process assessing outcomes in addition to process (that is, an assessment of actual prevalence of disease over the course of the intervention, in addition to counts or assessments of activities or services and products provided to clientele).

• Centers are strongly encouraged to monitor the prevalence and severity of ECC.

II. Award Information

Type of Awards: Grant

Estimated Funds Available: The total amount of funding identified for the current fiscal year FY 2010 is approximately $996,000. Competing and continuation awards issued under this announcement are subject to the availability of funds. In the absence of funding, the agency is under no obligation to make awards funded under this announcement.

Anticipated Number of Awards: Approximately four awards will be issued under this program announcement.

Project Period: Five years. Funding beyond the initial year is subject to availability of funds.

Award Amount: $249,000 annual, per Center.

III. Eligibility Information

I. Eligibility

The eligible applicants include:

• Urban Indian Organizations, Title V Urban Health organizations, 25 U.S.C. 1603(h).

• Tribal organizations, 25 U.S.C. 1603(e).

Definitions

“Tribal organization” means the elected governing body of any Indian Tribe or any legally established organization of Indians which is controlled by one or more such bodies or by a board of directors elected or selected by one or more such bodies (or elected by the Indian population to be served by such organization) and which includes the maximum participation of Indians in all phases of its activities. 25 U.S.C. 1603(e).

“Urban Indian organization” means a non-profit corporate body situated in an urban center governed by an urban Indian controlled board of directors, and providing for the maximum participation of all interested Indian groups and individuals, which body is capable of legally cooperating with other public and private entities for the purpose of performing the activities. 25 U.S.C. 1603(h).

2. Cost Sharing or Matching

The DPCSC Program encourages, but does not require, matching funds or cost sharing.

3. Other Requirements

If the application budget exceeds the stated dollar amount that is outlined within this announcement it will not be considered for funding.

Nonprofit urban (IHS) organizations must submit a copy of the 501(c)(3) Certificate as proof of non-profit status. This is not a requirement for Tribal organizations.

All individual programs to be served must be listed in the proposal. There is no requirement that a Center serve a minimum number of field programs. However, applicants proposing services to an entire Area or region will enjoy a significant competitive advantage during the review and scoring of applications over those proposing services to a relatively small number of dental programs.

IV. Application and Submission Information

1. Obtaining Application Materials

The application package and instructions may be located at www.Grants.gov or http://www.ihs.gov/NonMedicalPrograms/gogp/index.cfm?module=gogp_funding.

2. Content and Form Application Submission

The applicant must include the project narrative as an attachment to the application package.

Mandatory documents for all applicants include:

• Application forms:

○ SF-424.

○ SF-424A.

○ SF-424B.

• Budget Narrative (must be single spaced).

• Project Narrative (must not exceed 25 pages).

• Assurances and Certifications

• 501(c)(3) Certificate (Title V Urban Indian Health Programs only).

• Biographical sketches for all Key Personnel.

• A cover page.

• Project Abstract (not to exceed one page).

• Table of Contents.

• Categorical Budget Narrative and Budget Justification.

• Appended Items.

• Disclosure of Lobbying Activities (SF-LLL) (if applicable).

• Electronic files illustrating a limited selection of work products such as pamphlets or handouts produced at existing Support Centers or through similar initiatives can be appended. Appended letters of reference or support are not requested, nor required. Regardless of submission format (electronic or paper), appended documents do not count toward the 25 page limit.

• Documentation of current OMB A-133 required Financial Audit, if applicable. Acceptable forms of documentation include:

○ Face sheets (only) from audit reports. These can be found on the FAC Web site: http://harvester.census.gov/fac/dissem/accessoptions.html?submit=Retrieve+Records.

○ Proof of fiscal audit does not include a full copy of the audit report. Please submit the face page, as proof.

Applicants submitting paper proposals (for proposal format, see section IV-3) will adhere to the following requirements:

• Single spaced.

• Typewritten.

• Consecutively numbered pages.

• Black type not smaller than 12 characters per one inch.

• Submit on one side only of standard 81/2 × 11 inch paper.

• Do not tab, glue, or place in a plastic holder.

• Narrative not to exceed 25 typed pages. The 25 page narrative does not include any standard forms, table of contents, budget, budget justifications, and/or other appended items. Please note that an outstanding proposal that is highly competitive can be outlined in significantly less than 25 pages. Use the pages as needed, but focus on a quality submission rather than the quantity of the submission.

• Submit one original and two copies of the proposal

Public Policy Requirements

All Federal-wide public policies apply to IHS grants with exception of the Discrimination policy.

Requirements for Project and Budget Narratives

A. Project Narrative: This narrative should be a separate Word document that is no longer than 25 pages (see page limitations for each Part noted below).

Detailed content of application submission follows.

• A cover page labels the submission as a “Proposed Dental Preventive and Clinical Support Center” for one or more identified IHS Areas or a defined geographic region. It includes contact information for one primary author or contact, and for one alternate contact.

• Project Abstract (not to exceed one page), providing the synopsis of “who, what, when, where, why, and associated costs.”

• Table of contents to correspond with numbered pages of the narrative and attachments. Format outlined in the table of contents and used for the proposal is discretionary. However, a format utilizing labels or “signposts” that enables reviewers to easily locate the sections of the proposal being evaluated and scored (that is, perceived challenges/assessment of program needs/targeted recipients, goals and objectives, methodology/activities, proposed budget, results/deliverables, evaluation, and organizational capabilities) is suggested.

• Content of the application should relate directly to the overarching emphasis of the support center project, to provide support and technical assistance to Area and field programs for:

○ clinical dental programs

○ community-based preventive initiatives

○ clinic-based preventive programs

○ regional and national initiatives

• Applications proposing services to proportionately greater numbers of dental programs within an Area or region will gain a competitive advantage over proposals outlining services to relatively few dental programs per Area or region.

• The project narrative should address the proposed Support Center's commitment to:

○ Sound program planning and evaluation principles, outlining goals and anticipated results linked to outcome objectives, process objectives, milestones or annual objectives, proposed activities, and an evaluation process.

○ Sound initial and on-going assessments of perceived needs.

○ Provide assistance and support to local, regional, and national initiatives in collaboration with the IHS HQ DOH.

○ Collaborate with other Support Centers through regional and national cooperative ventures.

○ Proactively share work products and lessons learned throughout the IHS dental program.

○ Reserve sufficient funding in each annual budget for at least one Support Center representative to attend an annual national meeting, if deemed necessary by the Project Officer.

○ Program accountability grounded in objectively assessed and documented progress toward stated program goals and objectives.

○ Evaluate protocol that directly addresses on an annual basis all outcome and process objectives.

Technical information regarding the Support Centers project, including examples of appropriate support and assistance, may be obtained from the Project Official:

Dr. Patrick Blahut, Division of Oral Health, IHS, 801 Thompson Ave., Suite 300, Rockville, MD 20852, (301) 443-4323, E-mail: patrick.blahut@ihs.gov.

While clarification of questions and discussion of examples of appropriate support and work products are encouraged, each applicant is reminded to focus on the specific needs of the programs they propose to serve.

The DOH through its Program Official will, upon request, provide technical assistance. Such assistance will be provided objectively and consistently in response to any and all inquiries.

• Provide information pertinent to program planning, program evaluation, and the evolving needs of the IHS DOH upon request.

• Provide information, feedback, and guidance on appropriate Support Center/IHS HQ national collaborative projects.

• Provide feedback concerning reports, progress toward goals and objectives, and overall performance.

• Provide templates or suggested content for reports.

3. Submission Dates and Times

Applications must be submitted electronically through Grants.gov by June 2, 2010 at 12 midnight Eastern Standard Time (EST). Any application received after the application deadline may not be accepted for processing, and may be returned to the applicant(s) without further consideration for funding.

If technical challenges arise and assistance is required with the electronic application process, contact Grants.gov Customer Support via e-mail to support@grants.gov or at (800) 518-4726. Customer Support is available to address questions 24 hours a day, 7 days a week (except on Federal holidays). If problems persist, contact Tammy Bagley, Division of Grants Policy (DGP) (tammy.bagley@ihs.gov) at (301) 443-5204. Please be sure to contact Ms. Bagley at least ten days prior to the application deadline. Please do not contact the DGP until you have received a Grants.gov tracking number. In the event you are not able to obtain a tracking number, call the DGP as soon as possible.

If an applicant needs to submit a paper application instead of submitting electronically via Grants.gov, prior approval must be requested and obtained. The waiver must be documented in writing (e-mails are acceptable), before submitting a paper application. A copy of the written approval must be submitted along with the hardcopy that is mailed to the DGO, 12300 Twinbrook, Suite 360, Rockville MD 20852. Paper applications that are submitted without a waiver will be returned to the applicant without review or further consideration. Late applications may not be accepted for processing, may be returned to the applicant, and may not be considered for funding.

4. Intergovernmental Review

Executive Order 12372 requiring intergovernmental review is not applicable to this program.

5. Funding Restrictions

• Pre-award costs are/are not allowable pending prior approval from the awarding agency. However, in accordance with 45 CFR Part 74 and 92, pre-award costs are incurred at the recipient's risk. The awarding office is under no obligation to reimburse such costs if for any reason the applicant does not receive an award or if the award to the recipient is less than anticipated.

• The available funds are inclusive of direct and appropriate indirect costs.

• Only one award will be made to provide services to any individual Area or region.

• IHS will not acknowledge receipt of applications.

6. Electronic Submission Requirements

Use the http://www.Grants.gov Web site to submit an application electronically and select the “Apply for Grants” link on the homepage. Download a copy of the application package, complete it offline, and then upload and submit the application via the Grants.gov Web site. Electronic copies of the application may not be submitted as attachments to e-mail messages addressed to IHS employees or offices.

Applicants that receive a waiver to submit paper application documents must follow the rules and timelines that are noted below. The applicant must seek assistance at least ten days prior to the application deadline.

Applicants that do not adhere to the timelines for Central Contractor Registry (CCR) and/or Grants.gov registration and/or request timely assistance with technical issues will not be considered for a waiver to submit a paper application.

Please be aware of the following:

• Please search for the application package in Grants.gov by entering the CFDA number or the Funding Opportunity Number. Both numbers are located in the header of this announcement.

• Paper applications are not the preferred method for submitting applications. However, if you experience technical challenges while submitting your application electronically, please contact Grants.gov Support directly at: www.Grants.gov/CustomerSupport or (800) 518-4726. Customer Support is available to address questions 24 hours a day, 7 days a week (except on Federal holidays).

• Upon contacting Grants.gov, obtain a tracking number as proof of contact. The tracking number is helpful if there are technical issues that cannot be resolved and waiver from the agency must be obtained.

• If it is determined that a waiver is needed, you must submit a request in writing (e-mails are acceptable) to GrantsPolicy@ihs.gov with a copy to Tammy.Bagley@ihs.gov. Please include a clear justification for the need to deviate from our standard electronic submission process.

• If the waiver is approved, the application should be sent directly to the DGO by the deadline date of June 2, 2010.

• Applicants are strongly encouraged not to wait until the deadline date to begin the application process through Grants.gov as the registration process for CCR and Grants.gov could take up to fifteen working days.

• Please use the optional attachment feature in Grants.gov to attach additional documentation that may be requested by the DGO.

• All applicants must comply with any page limitation requirements described in this Funding Announcement.

• After you electronically submit your application, you will receive an automatic acknowledgment from Grants.gov that contains a Grants.gov tracking number. The DGO will download your application from Grants.gov and provide necessary copies to the appropriate agency officials. Neither the DGO nor the IHS DOH will notify applicants that the application has been received.

E-mail applications will not be accepted under this announcement.

Dun and Bradstreet (D&B) Data Universal Numbering System (DUNS)

Applicants are required to have a DUNS number to apply for a grant or cooperative agreement from the Federal Government. The DUNS number is a unique nine-digit identification number provided by D&B, which uniquely identifies your entity. The DUNS number is site specific; therefore each distinct performance site may be assigned a DUNS number. Obtaining a DUNS number is easy and there is no charge. To obtain a DUNS number, you may access it through the following Web site http://fedgov.dnb.com/webform or to expedite the process call (866) 705-5711.

Applicants must also be registered with the CCR and a DUNS number is required before an applicant can complete their CCR registration. Registration with the CCR is free of charge. Applicants may register online at www.ccr.gov. Additional information regarding the DUNS, CCR, and Grants.gov processes can be found at: www.Grants.gov.

Applicants may register by calling 1(866) 606-8220. Please review and complete the CCR Registration worksheet located at www.ccr.gov.

V. Application Review Information

Points will be assigned to each evaluation criteria adding up to a total of 100 points. A minimum score of 65 points is required for consideration for funding. Scores above 65 do not guarantee funding. Points are assigned as follows:

1. Evaluation Criteria

A. Introduction and statement of perceived problems. Assessment of perceived initial and evolving local program needs. Targeted recipients of services. (14 points)

(1) An assessment of initial dental program needs, or a detailed plan for such assessment, is required for funding. Complete lack of a documented needs assessment or a detailed plan for such assessment will result in rejection of the proposal.

(2) Outline a plan to assess evolving dental program needs over time, including identification of steering committee members or a plan for structured, periodic feedback from customers, a tentative schedule of steering committee meetings or conference calls, and how an ongoing assessment will be used to produce an evolving program geared to changing needs.

(3) Describe existing Area or regional problems, challenges, or perceived need for the support center.

(4) Describe the perceived needs of programs to be served. State how these needs are known to you (through a systematic needs assessment, or through an informal appraisal to be augmented with a more systematic assessment in the near future, or through other described channels).

(5) Discuss the proposed coverage or recipients of services in your region or Area. List by name the individual programs or Service Units to be served. If some facilities in the region or Area will not be served, identify them and provide the criteria or reason for exclusion (there is no requirement that all dental programs will be served). It is assumed, unless stated otherwise, that facilities to be served will each be offered equivalent services, and receive differing services based solely on need.

B. Program goals and objectives. (15 points)

(1) Describe briefly, in plain English rather than measurable objectives, what the project intends to accomplish.

(2) State long term goals or outcome objectives, and the annual process objectives or milestones of the project. Describe how these objectives will address the clinical and preventive needs of dental programs in the Area or region. Objectives should be specific, measurable, potentially attainable or realistic, relevant to perceived needs, and time-bound or with clearly specified deadlines.

(3) Describe the rationale for choosing your program goals over other possible proposed outcomes. Why are your specific goals considered especially important?

C. Methodology, activities, work plan. (14 points)

(1) Describe the specific activities that will lead to attainment of each objective. If the connections between long-term goals, annual objectives or milestones, and activities are not obvious, outline or explain them. That is, describe how your planned activities will lead to attaining annual goals, and how these annual accomplishments will lead to attaining long-term goals.

(2) Describe how support center activities will complement existing initiatives, infrastructure, and support systems (if any).

(3) Describe the specific community-based and clinic-based preventive initiatives and activities you will stress. Approaches may be innovative, but must also be scientifically sound and evidence-based.

(4) What data will be obtained, analyzed, and maintained? While collecting data describing activities is appropriate, achieving both annual and long-term outcomes with the data to document attainment is essential.

(5) Provide a work plan tied closely to goals and objectives that is project specific, sound, effective and realistic.

D. Proposed budget. (14 points)

(1) Provide a detailed categorical budget for the initial year of the project.

(2) Justify the proposed budget: for any line item not obviously linked to your work plan, explain why the line item is necessary and relevant to attaining goals and objectives of the project.

(3) If indirect costs are claimed, either: (1) state the negotiated rate and include a copy of the current rate agreement, or (2) explain how the amount requested was calculated.

(4) Provide, in summary form, proposed budgets for years two through five. Detail required in the budget for the initial year is not necessary for subsequent years.

E. Anticipated results, deliverables. (15 points)

(1) Describe anticipated annual outcomes for initial and subsequent years.

(2) Describe overall anticipated five-year outcomes.

(3) Describe how the annual results relate to improved oral health and progress toward overall project goals and objectives.

(4) Describe in detail anticipated work products or deliverables. Include estimated deadlines for all products or deliverables. It is recognized that evolving needs may result in revised deliverables.

(5) Proactive dissemination of information and deliverables is considered an integral, collaborative function of all support centers. Describe plans or mechanisms to proactively share deliverables, work products, results, and “lessons learned” with other support centers, IHS Areas, and other appropriate groups.

F. Evaluation. (14 points)

(1) Describe how the project will be evaluated. Describe how you will determine if the project is meeting identified needs and achieving stated objectives.

(2) Specify what will be measured, when the assessments will take place, and how the collected data will be analyzed and reported.

(3) Include a brief evaluation protocol for every program goal and annual objective that enables the reader to understand how progress will be assessed.

(4) Identify who will conduct the various assessments and overall evaluation.

(5) What will be done with evaluation results? With whom will the results be shared? How will evaluative data be utilized to result in a more effective program?

(6) Describe plans, if any, for periodic “outside” or objective program reviews.

G. Organization capabilities, personnel qualifications, resources. (14 points)

(1) Describe where the project will be housed. Describe available resources such as office furnishings, computers, and equipment.

(2) State the total annual overhead, administrative and indirect costs. Describe the services and resources these payments will provide. An ideal center leverages existing infrastructure to maximize resources available for direct program support.

(3) Describe any plans for sustainability, leveraging of resources, and collaborative efforts.

(4) List any additional resources available to the proposed center, such as matching funds, or collaborative agreements. Matching funds and collaborative agreements are not required.

(5) Describe in detail any cost sharing or “in kind contributions.” Cost sharing or “in kind contributions” are not required.

(6) If personnel have been identified and are committed to the initiative, describe the qualifications and relevant experience of key personnel.

(7) Demonstrate the organization has systems and expertise to manage Federal funds. How will the project operate both financially and administratively?

(8) List the qualifications and experience of any consultants or contractors.

(9) Append a scope of work or job description for key center positions. Descriptions will list duties and include desired qualifications and experience.

(10) Append resumes of key personnel, including consultants or contractors. Position descriptions with detailed qualifications of those to be recruited will suffice if personnel have not yet been identified.

(11) Describe the experience of your program or personnel in providing similar services in the past. No de facto preference will be given to existing support centers. New applicants are evaluated on a “level playing field” with existing support centers applying for a new cycle of competitive funding. Achievements of current support centers are not a substitute for a well-formulated plan, but are considered evidence of past performance as predictive of potential future performance.

2. Review and Selection

Each application will be prescreened by the DGO staff for eligibility and completeness as outlined in the funding announcement. Incomplete applications and applications that are non-responsive to the eligibility criteria will not be referred to the Objective Review Committee. Applicants will be notified by the DGO, via letter, of the missing components of the application.

To obtain a minimum score for funding, applicants must address all program requirements and provide all required documentation. Applicants that receive less than a minimum score will be informed via e-mail of their application's deficiencies. A summary statement outlining the strengths and weaknesses of the application will be provided to the applicant. The summary statement will be sent to the Authorized Organizational Representative (AOR) that is identified on the face page of the application.

VI. Award Administration Information

1. Award Notices

The Notice of Award (NoA) will be initiated by DGO and will be mailed via postal mail to each entity that is approved for funding under this announcement. The NoA will be signed by the Grants Management Officer; this is the authorizing document for which funds are dispersed to the approved entities. The NoA will serve as the official notification of the grant award and will reflect the amount of Federal funds awarded for the purpose of the grant, the terms and conditions of the award, the effective date of the award, and the budget/project period. The NoA is the legally binding document and is signed by an authorized grants official within the Indian Health Service.

2. Administrative Requirements

Grants are administered in accordance with the following regulations, policies, and OMB cost principles:

A. The criteria as outlined in this Program Announcement.

B. Administrative Regulations for Grants:

• 45 CFR, Part 92, Uniform Administrative Requirements for Grants and Cooperative Agreements to State, Local and Tribal Governments.

• 45 CFR, Part 74, Uniform Administrative Requirements for Grants and Agreements with Institutions of Higher Education, Hospitals, and other Non-profit Organizations.

C. Grants Policy:

• HHS Grants Policy Statement, Revised 01/07.

D. Cost Principles:

• Title 2: Grant and Agreements, Part 225—Cost Principles for State, Local, and Indian Tribal Governments (OMB A-87).

• Title 2: Grant and Agreements, Part 230—Cost Principles for Non-Profit Organizations (OMB Circular A-122).

E. Audit Requirements:

• OMB Circular A-133, Audits of States, Local Governments, and Non-profit Organizations.

3. Indirect Costs

This section applies to all grant recipients that request reimbursement of indirect costs in their grant application. In accordance with HHS Grants Policy Statement, Part II-27, IHS requires applicants to obtain a current indirect cost rate agreement prior to award. The rate agreement must be prepared in accordance with the applicable cost principles and guidance as provided by the cognizant agency or office. A current rate covers the applicable grant activities under the current award's budget period. If the current rate is not on file with the DGO at the time of award, the indirect cost portion of the budget will be restricted. The restrictions remain in place until the current rate is provided to the DGO.

Generally, indirect costs rates for IHS grantees are negotiated with the Division of Cost Allocation (DCA) http://rates.psc.gov/ and the Department of Interior (National Business Center) http://www.aqd.nbc.gov/indirect/indirect.asp. If your organization has questions regarding the indirect cost policy, please call (301) 443-5204 to request assistance.

4. Reporting Requirements

The reporting requirements for this program are noted below.

A. Progress Reports

Program progress reports are required semi-annually. These reports will include a brief comparison of actual accomplishments to the goals established for the period, or, if applicable, provide sound justification for the lack of progress, and other pertinent information as required. A final report of progress toward objectives must be submitted within 90 days of expiration of the budget/project period.

B. Financial Reports

Annual Financial Status Reports (FSR) reports must be submitted within 30 days after the budget period ends. Final FSRs are due within 90 days of expiration of the project period. Standard Form 269 (long form for those reporting on program income; short form for all others) will be used for financial reporting.

Federal Cash Transaction Reports are due every calendar quarter to the Division of Payment Management, Payment Management Branch. Failure to submit timely reports may cause a disruption in timely payments to your organization.

Grantees are responsible and accountable for accurate reporting of the Progress Reports and Financial Status Reports which are generally due annually (although specific to this announcement, Progress Reports are due semi-annually). Financial Status Reports (SF-269) are due 90 days after each budget period and the final SF-269 must be verified from the grantee records on how the value was derived.

Failure to submit required reports within the time allowed may result in suspension or termination of an active grant, withholding of additional awards for the project, or other enforcement actions such as withholding of payments or converting to the reimbursement method of payment. Continued failure to submit required reports may result in one or both of the following: (1) The imposition of special award provisions; and (2) the non-funding or non-award of other eligible projects or activities. This requirement applies whether the delinquency is attributable to the failure of the grantee organization or the individual responsible for preparation of the reports.

Telecommunication for the hearing impaired is available at: TTY (301) 443-6394.

VII. Agency Contacts

Grants (Business), John Hoffman, Grants Management Officer, 801 Thompson, TMP, Suite 360, Rockville, MD 20852, (301) 443-2116 or john.hoffman@ihs.gov.

Program (Programmatic/Technical), Patrick Blahut, D.D.S., M.P.H., Deputy Director, Division of Oral Health, 801 Thompson Ave. Suite 332, Rockville, MD 20852, (301) 443-4323, patrick.bluhut@ihs.gov.

The Public Health Service strongly encourages all grant and contract recipients to provide a smoke-free workplace and promote the non-use of all tobacco products. In addition, Public Law 103-227, the Pro-Children Act of 1994, prohibits smoking in certain facilities (or in some cases, any portion of the facility) in which regular or routine education, library, day care, health care or early childhood development services are provided to children. This is consistent with the HHS mission to protect and advance the physical and mental health of the American people.

Dated: April 19, 2010.
Yvette Roubideaux,
Director, Indian Health Service.

[FR Doc. 2010-9701 Filed 4-26-10; 8:45 am]

BILLING CODE 4165-16-P